DEPARTMENT OF VETERANS AFFAIRS.

[OMB Control No. 2900-0594]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 2, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.gov. Please refer to “OMB Control No. 2900-0594.”

Send comments and recommendations concerning any aspect of the information collection to VA's OMB Desk Officer, OMB Human Resources and Housing Branch, New Executive Office Building, Room 10235, Washington, DC 20503 (202) 395-7316. Please refer to “OMB Control No. 2900-0594” in any correspondence.

SUPPLEMENTARY INFORMATION: Title: Election to Apply Selected Reserve Services to either Montgomery GI Bill-Active Duty or to the Montgomery GI Bill-Selected Reserve—38 CFR 21.7042 and 21.7540.

OMB Control Number: 2900-0594.

Type of Review: Reinstatement, without change, of a previously approved collection for which approval has expired.

Abstract: VA is authorized to pay educational benefits to veterans, persons on active duty, and reservists, and eligible persons pursuing approved programs of education. This information collection relates to elections between chapters 30 and 1606 education benefits. Reservists must make elections in writing. The election takes effect when the individual either negotiates a check or receives education benefits via direct deposit or electronic funds transfer under the program elected. The election is used to determine which benefit is payable based on the individual's Selected Reserve service.

An agency may not conduct or sponsor, and a person is not required to respond to a collection of information unless it displays a currently valid OMB control number. The Federal Register Notice with a 60-day comment period soliciting comments on this collection of information was published on April 22, 2002, at page 19623.

Affected Public: Individuals or households.

Estimated Annual Burden: 36 hours.

Estimated Average Burden Per Respondent: 20 minutes.

Frequency of Response: On occasion.

Estimated Number of Respondents: 12.

Dated: June 21, 2002.
By direction of the Secretary.
Genie McCully,
Acting Director, Information Management Service.

[FR Doc. 02-16705 Filed 7-2-02; 8:45 am]

BILLING CODE 8301-01-P